SMALL BUSINESS ADMINISTRATION

[Disaster Declaration #20948 and #20949; Missouri Disaster Number MO-20009]

Presidential Declaration of a Major Disaster for Public Assistance Only for the State of Missouri

AGENCY: Small Business Administration.

ACTION: Notice.

SUMMARY: This is a Notice of the Presidential declaration of a major disaster for Public Assistance Only for the State of Missouri (FEMA-4855-DR), dated January 1, 2025.

Incident: Severe Storms, Tornadoes, Straight-line Winds, and Flooding.

DATES: Issued on January 1, 2025.

Incident Period: November 3, 2024 through November 9, 2024.

Physical Loan Application Deadline Date: March 3, 2025.

Economic Injury (EIDL) Loan Application Deadline Date: October 1, 2025.

ADDRESSES: Visit the MySBA Loan Portal at https://lending.sba.gov to apply for a disaster assistance loan.

FOR FURTHER INFORMATION CONTACT: Alan Escobar, Office of Disaster Recovery & Resilience, U.S. Small Business Administration, 409 3rd Street, SW, Suite 6050, Washington, DC 20416, (202) 205-6734.

SUPPLEMENTARY INFORMATION: Notice is hereby given that as a result of the President's major disaster declaration on January 1, 2025, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary Counties: Carter, Crawford, Dent, Douglas, Howell, Oregon, Ozark, Phelps, Pulaski, Reynolds, Shannon, Texas, Washington, Wright.

The Interest Rates are:

| Percent
For Physical Damage:
Non-Profit Organizations with Credit Available Elsewhere | 3.625
Non-Profit Organizations without Credit Available Elsewhere | 3.625
For Economic Injury:
Non-Profit Organizations without Credit Available Elsewhere | 3.625

The number assigned to this disaster for physical damage is 20948C and for economic injury is 209490.

(Catalog of Federal Domestic Assistance Number 59008)

Alejandro C. Contreras,
Acting Deputy Associate Administrator, Office of Disaster Recovery & Resilience.

[FR Doc. 2025-00148 Filed 1-7-25; 8:45 am]

BILLING CODE 8026-09-P